DEPARTMENT OF HEALTH AND HUMAN SERVICES

National Institutes of Health

Eunice Kennedy Shriver National Institute of Child Health & Human Development; Amended Notice of Meeting

Notice is hereby given of a change in the meeting of the Board of Scientific Counselors Eunice Kennedy Shriver National Institute of Child Health and Human Development, June 6, 2025, 10:00 a.m. to June 6, 2025, 3:45 p.m., Eunice Kennedy Shriver National Institute of Child, 31 Center Drive, Bethesda, MD, 20892 which was published in the Federal Register on March 19, 2025, 90 FR 12750.

The meeting notice is amended to change from closed session to open and closed session. The meeting is partially closed to the public.

Dated: April 1, 2025.
Bruce A. George,
Program Analyst, Office of Federal Advisory Committee Policy.

[FR Doc. 2025-05834 Filed 4-3-25; 8:45 am]

BILLING CODE 4140-01-P